DEPARTMENT OF DEFENSE

Department of the Navy

Notice of Intent To Prepare an Environmental Impact Statement (EIS) for the Shock Trial of a SAN ANTONIO (LPD 17) Class Amphibious Assault Ship

AGENCY: Department of the Navy, DOD.

ACTION: Notice.

SUMMARY: Pursuant to Section 102(2)(c) of the National Environmental Policy Act (NEPA) of 1969, as implemented by the Council on Environmental Quality regulations (40 CFR parts 1500-1508), the Department of the Navy (Navy) announces its intent to prepare an Environmental Impact Statement/Overseas Environmental Impact Statement (EIS/OEIS) to evaluate the potential environmental impacts associated with conducting a shock trial on a SAN ANTONIO (LPD 17) Class Amphibious Assault Ship, at a site located off the East Coast or Gulf Coast of the United States. Pursuant to 40 CFR 1501.6, the Navy has requested that the National Marine Fisheries Service (NMFS) act as a Cooperating Agency.

A “shock trial” is necessary to evaluate the effect that shock waves, resulting from a series of underwater explosions and designed to emulate conditions encountered in combat, have when they propagate through a ship's hull. The congressionally mandated (10 U.S.C. 2366) Live Fire Test and Evaluation (LFT&E) Program requires realistic survivability testing on each new class of Navy ships. A “shock trial” is a component of the Navy's LFT&E program to ensure survivability. The shock trial results provide important information that is applied to follow-on ships and is used to improve the initial ship design and enhance the effectiveness and overall survivability of the ship and crew. Shock trials have proven their value as recently as the Persian Gulf War when ships were able to survive battle damage and continue their mission because of ship design, crew survivability, and crew training lessons learned during previous shock tests.

DATES: Public scoping meetings will be held in Norfolk, VA; Jacksonville/Atlantic Beach, FL; and Pascagoula, MS, to receive oral and/or written comments on environmental concerns that should be addressed in the EIS/OEIS. The public meeting dates are:

1. Tuesday, April 20, 2004, from 6 p.m. to 8 p.m., in Norfolk, VA.

2. Wednesday, April 21, 2004, from 6 p.m. to 8 p.m., in Jacksonville/Atlantic Beach, FL.

3. Thursday, April 22, 2004, from 6 p.m. to 8 p.m., in Pascagoula, MS.

ADDRESSES: The public meeting locations are:

1. Norfolk, VA: Lafayette Branch Public Library, 1610 Cromwell Drive, Norfolk, VA 23509.

2. Jacksonville/Atlantic Beach, FL: Mayport Elementary School Media Center, 2753 Shangri-La Drive, Atlantic Beach, FL 32233-2999.

3. Pascagoula, MS: Le Maison Gautier, 2800 Oak Street, Gautier, MS 39553.

FOR FURTHER INFORMATION CONTACT: Naval Sea Systems Command, Attn: Ms. Lyn Carroll (04RE), 1331 Isaac Hull Ave., SE., Washington Navy Yard, DC 20376; (703) 412-7521.

SUPPLEMENTARY INFORMATION: The proposed action (shock trial) would subject a SAN ANTONIO (LPD 17) Class Amphibious Assault Ship to no more than four explosive charges, approximately 10,000 pounds each, while monitoring the effects on the ship. The EIS/OEIS will thoroughly address reasonable alternatives to the proposed action, the existing environments of the proposed test areas, and the impact to the environment at those areas. An initial evaluation identified beyond the 600-foot depth curve (no closer than 9 nm from shore) and within 120 nm of Jacksonville, FL; Pascagoula, MS; and Norfolk, VA, as potential shock trial locations because they effectively meet the operational criteria necessary to conduct a shock trial on an amphibious ship. The proposed shock trial is planned for the late 2006/early 2007 timeframe.

The EIS/OEIS will evaluate the potential environmental impacts associated with the test locations. Issues to be addressed will include, but are not limited to, the following resource areas: Wildlife including threatened and endangered species and marine mammals, fisheries including an analysis of water quality, air quality, commercial fishing, commercial shipping, recreation, and socioeconomics. The evaluation will include an evaluation of the direct, indirect, short-term, and cumulative impacts. No decision will be made to conduct a shock trial until the NEPA process is completed.

The Navy is initiating the scoping process to identify community concerns and local issues that should be addressed in the EIS/OEIS. Federal, state, local agencies, and interested persons are encouraged to provide oral and/or written comments to the Navy to identify specific issues or topics of environmental concern for consideration in the EIS/OEIS. The Navy will consider these comments in determining the scope of the EIS/OEIS.

Written comments on the scope of the EIS/OEIS should be submitted by May 20, 2004, and should be mailed to: LPD 17 Program Manager, C/O Booz Allen Hamilton, 1725 Jefferson Davis Hwy., Suite 1100, Arlington, VA 22202, Attn: LPD 17 EIS.

Dated: March 8, 2004.
S.A. Hughes,
Lieutenant Commander, Judge Advocate General's Corps, U.S. Navy, Federal Register Liaison Officer.

[FR Doc. 04-5633 Filed 3-11-04; 8:45 am]

BILLING CODE 3810-FF-P